DEPARTMENT OF ENERGY

10 CFR Chs. II, III, and X

48 CFR Ch. 9

Unified Agenda of Federal Regulatory and Deregulatory Actions

AGENCY: Department of Energy.

ACTION: Semiannual Regulatory Agenda.

SUMMARY: The Department of Energy (DOE) has prepared and is making available its portion of the semi-annual Unified Agenda of Federal Regulatory and Deregulatory Actions (Agenda) pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act, as amended, and programmatic needs of DOE offices.

The internet is the basic means for disseminating the Agenda and providing users the ability to obtain information from the Agenda database. DOE's Spring 2024 Agenda can be accessed online by going to www.reginfo.gov.

DOE's regulatory flexibility agenda is made up of rulemakings setting energy efficiency standards and requirements applicable to DOE sites.

Samuel Walsh,
General Counsel.

Energy Efficiency and Renewable Energy—Final Rule Stage
Sequence No. | Title | Regulation Identifier No.
59 | Energy Conservation Standards for Circulator Pumps | 1904-AD61
60 | Energy Conservation Standards for Consumer Water Heaters | 1904-AD91
61 | Test Procedures for Air-Cooled, Evaporatively-Cooled, and Water-Cooled Commercial Package Air Conditioners and Heat Pumps | 1904-AD93
62 | Energy Conservation Standards for Distribution Transformers | 1904-AE12
63 | Energy Conservation Standards for Consumer Boilers | 1904-AE82
64 | Test Procedures for Evaporatively-Cooled Commercial Unitary Air Conditioners (ECUACs) and Water-Cooled Commercial Unitary Air Conditioners (WCUACs) | 1904-AF45

Energy Efficiency and Renewable Energy—Completed Actions
Sequence No. | Title | Regulation Identifier No.
65 | Energy Conservation Standards for Residential Non-Weatherized Gas Furnaces and Mobile Home Gas Furnaces | 1904-AD20
66 | Energy Conservation Standards for Consumer Clothes Washers | 1904-AD98
67 | Energy Conservation Standards for Miscellaneous Residential Refrigeration | 1904-AF00
68 | Energy Conservation Program: Energy Conservation Standards for General Service Lamps | 1904-AF43

DEPARTMENT OF ENERGY (DOE)

Energy Efficiency and Renewable Energy (EE)

Final Rule Stage

59. Energy Conservation Standards for Circulator Pumps [1904-AD61]

Legal Authority: 42 U.S.C. 6311(1)(A); 42 U.S.C. 6316(a); 42 U.S.C. 6295(o)

Abstract: The Energy Policy and Conservation Act, as amended (EPCA), prescribes energy conservation standards for various consumer products and certain commercial and industrial equipment, including circulator pumps. EPCA also requires the U.S. Department of Energy (DOE) to periodically determine whether more-stringent, standards would be technologically feasible and economically justified, and would result in significant energy savings. In the final rule, DOE adopted new energy conservation standards for circulator pumps. It has determined that the energy conservation standards for this equipment would result in significant conservation of energy, and are technologically feasible and economically justified.

Timetable:

Action | Date | FR Cite
Notice of Intent to Start a Negotiated Rulemaking Working Group and Notice of Public Meeting | 02/03/16 | 81 FR 5658
Notice of Working Group Public Meetings | 03/16/16 | 81 FR 14024
Request for Information (RFI) | 05/07/21 | 86 FR 24516
RFI Comment Period Extended | 05/26/21 | 86 FR 28298
RFI Comment Period Extended End | 07/30/21
NPRM | 12/06/22 | 87 FR 74850
NPRM Comment Period End | 02/06/23
Final Action | 05/20/24 | 89 FR 44464
Final Action Effective | 08/05/24

Regulatory Flexibility Analysis Required: Yes.

Agency Contact: Jeremy Dommu, Building Technologies Office, EE-2J, Department of Energy, 1000 Independence Avenue SW, Washington, DC 20585, Phone: 202 586-9870, Email: jeremy.dommu@ee.doe.gov.

RIN: 1904-AD61

60. Energy Conservation Standards for Consumer Water Heaters [1904-AD91]

Legal Authority: 42 U.S.C. 6295(m)(1)

Abstract: The Energy Policy and Conservation Act, as amended (EPCA), prescribes energy conservation standards for various consumer products and certain commercial and industrial equipment, including consumer water heaters. EPCA also requires the U.S. Department of Energy (DOE) to periodically determine whether more stringent standards would be technologically feasible and economically justified, and would result in significant energy savings. In the final rule, DOE has adopted amended energy conservation standards for consumer water heaters, except for gas-fired instantaneous water heaters (GIWHs). DOE has determined that the new and amended energy conservation standards for these products would result in significant conservation of energy, and are technologically feasible and economically justified. DOE is still considering amended energy conservation standards for GIWHs and will continue to consider comments submitted previously to inform any decision on amended standards.

Timetable:

Action | Date | FR Cite
Request for Information (RFI) | 05/21/20 | 85 FR 30853
RFI Comment Period End | 07/06/20
Notice of Webinar and Availability of Preliminary Technical Support Document | 03/01/22 | 87 FR 11327
Public Meeting | 04/12/22
Preliminary Technical Support Document Comment Period End | 05/02/22
RFI Comment Period Reopened | 05/04/22 | 87 FR 26303
RFI Comment Period Reopened End | 05/16/22
NPRM | 07/28/23 | 88 FR 49058
Public Meeting | 09/13/23
NPRM Comment Period End | 09/26/23
Supplemental NPRM | 12/27/23 | 88 FR 89330
Supplemental NPRM Comment Period End | 01/10/24
Final Action | 05/06/24 | 89 FR 37778
Final Action Effective | 07/05/24

Regulatory Flexibility Analysis Required: Yes.

Agency Contact: Julia Hegarty, Department of Energy, 1000 Independence Avenue SW, Washington, DC 20585, Phone: 240 597-6737, Email: julia.hegarty@ee.doe.gov.

RIN: 1904-AD91

61. Test Procedures for Air-Cooled, Evaporatively-Cooled, and Water-Cooled Commercial Package Air Conditioners and Heat Pumps [1904-AD93]

Legal Authority: 42 U.S.C. 6314(a)(4)(B); 42 U.S.C. 6314(a)(1)(A)

Abstract: The U.S. Department of Energy (DOE) has amended the Federal test procedures for air-cooled commercial package air conditioners and heat pumps with a rated cooling capacity greater than or equal to 65,000 Btu/h, evaporatively-cooled commercial package air conditioners, and water-cooled commercial package air conditioners to incorporate by reference the latest versions of the applicable industry test standards. In the final rule, DOE has amended the current test procedure for this equipment for measuring the current cooling and heating metrics—integrated energy efficiency ratio (IEER) and coefficient of performance (COP), respectively; and established a new test procedure for this equipment that adopts two new metrics—integrated ventilation, economizer, and cooling (IVEC) and integrated ventilation and heating efficiency (IVHE). Testing to the IVEC and IVHE metrics will not be required until such time as compliance is required with any amended energy conservation standard based on the new metrics. Additionally, DOE amended certain provisions of DOE's regulations related to representations and enforcement for the subject equipment.

Timetable:

Action | Date | FR Cite
Request for Information (RFI) | 07/25/17 | 82 FR 34427
RFI Comment Period End | 08/24/17
Request for Information (RFI) | 05/25/22 | 87 FR 31743
RFI Comment Period End | 06/24/22
Working Group Notice of Open Meetings | 09/01/22 | 87 FR 53699
NPRM | 08/17/23 | 88 FR 56392
NPRM Comment Period End | 10/16/23
Final Action | 05/20/24 | 89 FR 43986
Final Action Effective | 08/05/24

Regulatory Flexibility Analysis Required: Yes.

Agency Contact: Lucas Adin, Project Manager, Department of Energy, Energy Efficiency and Renewable Energy, 1000 Independence Avenue SW, Mail Stop EE-5B, Washington, DC 20585, Phone: 202 287-5904, Email: lucas.adin@ee.doe.gov.

RIN: 1904-AD93

62. Energy Conservation Standards for Distribution Transformers [1904-AE12]

Legal Authority: 42 U.S.C. 6295 (m)(1); 42 U.S.C. 6295(y); 42 U.S.C. 6316(a); 42 U.S.C. 6317(a)

Abstract: The Energy Policy and Conservation Act, as amended (EPCA), prescribes energy conservation standards for various consumer products and certain commercial and industrial equipment, including distribution transformers. EPCA also requires the U.S. Department of Energy (DOE) to periodically review its existing standards to determine whether more stringent standards would be technologically feasible and economically justified, and would result in significant energy savings. In the final rule, DOE is adopting amended energy conservation standards for distribution transformers. DOE has determined that the amended energy conservation standards for distribution transformers represent the maximum improvement in energy efficiency that is technologically feasible and economically justified, and would result in the significant conservation of energy.

Timetable:

Action | Date | FR Cite
Request for Information (RFI) | 06/18/19 | 84 FR 28239
RFI Comment Period End | 08/02/19
Notice of Availability of Preliminary Technical Support Document | 08/27/21 | 86 FR 48058
Preliminary Analysis Reopened | 11/16/21 | 86 FR 63318
Preliminary Technical Support Document Comment End | 12/10/21
NPRM | 01/11/23 | 88 FR 1722
NPRM Comment Period Extended | 02/22/23 | 88 FR 10856
NPRM Comment Period Extended End | 03/27/23
Final Action | 04/22/24 | 89 FR 29834
Final Action Effective | 07/08/24

Regulatory Flexibility Analysis Required: Yes.

Agency Contact: Jeremy Dommu, Building Technologies Office, EE-2J, Department of Energy, 1000 Independence Avenue SW, Washington, DC 20585, Phone: 202 586-9870, Email: jeremy.dommu@ee.doe.gov.

RIN: 1904-AE12

63. Energy Conservation Standards for Consumer Boilers [1904-AE82]

Legal Authority: 42 U.S.C. 6295(m)(1)

Abstract: Consistent with the requirements under the Energy Policy and Conservation Act (EPCA), as amended, the U.S. Department of Energy (DOE) is examining whether to amend the current energy conservation standards in place for consumer boilers found at 10 CFR 430.32(e). As a result of this effort, DOE may propose and adopt more-stringent standards or issue a determination that no amendments to the current standards are required. To this end, DOE must determine whether national standards more stringent than those currently in place would result in a significant amount of energy savings and whether such amended national standards would be technologically feasible and economically justified. Once completed, this rulemaking will fulfill DOE's statutory obligation to either propose and adopt amended standards for this product or determine that the existing standards do not need to be amended.

Timetable:

Action | Date | FR Cite
Request for Information (RFI); Early Assessment Review | 03/25/21 | 86 FR 15804
RFI Comment Period End | 04/26/21
RFI; Early Assessment Comment Period Extended | 04/09/21 | 86 FR 18478
RFI; Early Assessment Comment Period Extended End | 05/26/21
Notice of Webinar and Availability of Preliminary Technical Support Document | 05/04/22 | 87 FR 26304
Preliminary Technical Support Document Comment Period End | 07/05/22
NPRM | 08/14/23 | 88 FR 55128
Notice of Public Meeting and Webinar | 08/31/23 | 88 FR 60152
NPRM Comment Period End | 10/13/23
Final Rule | 12/00/24

Regulatory Flexibility Analysis Required: Yes.

Agency Contact: Julia Hegarty, Department of Energy, 1000 Independence Avenue SW, Washington, DC 20585, Phone: 240 597-6737, Email: julia.hegarty@ee.doe.gov.

RIN: 1904-AE82

64. Test Procedures for Evaporatively-Cooled Commercial Unitary Air Conditioners (ECUACS) and Water-Cooled Commercial Unitary Air Conditioners (WCUACS) [1904-AF45]

Legal Authority: 42 U.S.C. 6314(a)(4)(B); 42 U.S.C. 6314(a)(1)(A)

Abstract: The U.S. Department of Energy (DOE) has amended the Federal test procedures for air-cooled commercial package air conditioners and heat pumps with a rated cooling capacity greater than or equal to 65,000 Btu/h, evaporatively-cooled commercial package air conditioners, and water-cooled commercial package air conditioners to incorporate by reference the latest versions of the applicable industry test standards. In the final rule, DOE has amended the current test procedure for this equipment for measuring the current cooling and heating—metrics integrated energy efficiency ratio (IEER) and coefficient of performance (COP), respectively; and established a new test procedure for this equipment that adopts two new metrics—integrated ventilation, economizer, and cooling (IVEC) and integrated ventilation and heating efficiency (IVHE). Testing to the IVEC and IVHE metrics will not be required until such time as compliance is required with any amended energy conservation standard based on the new metrics. Additionally, DOE amended certain provisions of DOE's regulations related to representations and enforcement for the subject equipment.

Timetable:

Action | Date | FR Cite
Request for Information (RFI) | 07/25/17 | 82 FR 34427
RFI Comment Period End | 08/24/17
Second RFI | 05/25/22 | 87 FR 31743
Second RFI Comment Period End | 06/24/22
NPRM | 08/17/23 | 88 FR 56392
NPRM Comment Period End | 10/16/23
Final Action | 05/20/24 | 89 FR 43986
Final Rule Effective | 08/05/24

Regulatory Flexibility Analysis Required: Yes.

Agency Contact: Lucas Adin, Project Manager, Department of Energy, Energy Efficiency and Renewable Energy, 1000 Independence Avenue SW, Mail Stop EE-5B, Washington, DC 20585, Phone: 202 287-5904, Email: lucas.adin@ee.doe.gov.

RIN: 1904-AF45

DEPARTMENT OF ENERGY (DOE)

Energy Efficiency and Renewable Energy (EE)

Completed Actions

65. Energy Conservation Standards for Residential Non-Weatherized Gas Furnaces and Mobile Home Gas Furnaces [1904-AD20]

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including the residential furnaces which are the subject of this rulemaking. (42 U.S.C. 6292(a)(5)) EPCA also requires the U.S. Department of Energy (DOE) to determine whether more-stringent amended standards would be technologically feasible and economically justified and would save a significant amount of energy (42 U.S.C. 6295(o)(2)(A) and (3)(B)). EPCA specifically provides that DOE must conduct two rounds of energy conservation standards rulemakings for the residential furnaces at issue (42 U.S.C. 6295(f)(4)(B) and (C)), and the statute also requires that not later than six years after issuance of any final rule establishing or amending a standard, DOE must publish either a notice of determination that standards for the product does not need to be amended, or a notice of proposed rulemaking (NOPR) including new proposed energy conservation standards (42 U.S.C. 6295(m)(1)). This rulemaking is being undertaken pursuant to the statutorily-required second round of rulemaking for non-weatherized gas furnaces (NWGFs) and mobile home gas furnaces (MHGFs), and once completed, it will also satisfy the statutorily-required six-year-lookback review.

In the July 7, 2022 NOPR, DOE proposed amended and new energy conservation standards for NWGFs and MHGFs pursuant to a court-ordered remand of DOE's 2011 rulemaking for these products and other statutory requirements. 87 FR 40590. Specifically, the NOPR proposed amended active mode annual fuel utilization efficiency (AFUE) standards at 95 percent for both NWGFs and MHGFs. It also proposed amended standby mode and off mode standards (in watts) at 8.5 watts for both NWGFs and MHGFs. If finalized, the proposed standards would apply to all NWGFs and MHGFs manufactured in, or imported into, the United States starting on the date five years after the publication of the final rule for this rulemaking.

In the final rule, DOE adopts the amended energy conservation standards for both NWGFs and MHGFs. DOE has determined that the amended energy conservation standards for the subject products would result in significant conservation of energy, and are technologically feasible and economically justified.

In the final rule, DOE adopted the amended energy conservation standards for consumer furnaces, specifically nonweatherized gas furnaces and mobile home gas furnaces. The Department has determined that the amended energy conservation standards for the subject products would result in significant conservation of energy, and are technologically feasible and economically justified.

Completed:

Reason | Date | FR Cite
Final Rule | 12/18/23 | 88 FR 87502
Final Rule Effective | 02/16/24

Regulatory Flexibility Analysis Required: Yes.

Agency Contact: Julia Hegarty, Phone: 240 597-6737, Email: julia.hegarty@ee.doe.gov.

RIN: 1904-AD20

66. Energy Conservation Standards for Consumer Clothes Washers [1904-AD98]

Legal Authority: 42 U.S.C. 6295(g); 42 U.S.C. 6295(m)

Abstract: Consistent with the requirements under the Energy Policy and Conservation Act (EPCA), as amended, the U.S. Department of Energy (DOE) is examining whether to amend the current energy conservation standards for consumer clothes washers found at 10 CFR 430.32(g). To this end, DOE must determine whether standards more stringent than those currently in place would result in a significant amount of energy savings and whether such amended standards would be technologically feasible and economically justified. DOE has tentatively proposed standards that represent the maximum improvement in energy efficiency that is technologically feasible and economically justified, and would result in the significant conservation of energy. Specifically, with regards to technological feasibility, products achieving these standard levels are already commercially available for all product classes covered by this proposal. As for economic justification, DOE's analysis shows that the benefits of the proposed standard exceed the burdens. Once completed, this rulemaking will fulfill DOE's statutory obligation to either propose amended standards for this product or determine that the standards do not need to be amended.

Additionally, EPCA directs DOE to provide interested persons an opportunity to present oral and written comments on matters related to any energy conservation standard proposed rule. To satisfy this requirement, DOE held an initial public meeting in November 2021 to discuss preliminary materials and a second meeting in March 2023 to specifically discuss the proposed rule. DOE intends address any feedback provided during the March 2023 public meeting in subsequent materials.

On September 25, 2023, the Association of Home Appliance Manufacturers and efficiency and consumer organizations and utilities, submitted a joint letter to DOE recommending new and amended efficiency standards for various home appliances for consideration including residential clothes washers. Under the authority provided in 42 U.S.C. 6295(p)(4), DOE is now pursuing this effort through a direct final rule, see 1904-AF58.

Completed:

Action | Date | FR Cite
Withdrawn | 01/16/24

Regulatory Flexibility Analysis Required: Yes.

Agency Contact: Bryan D. Berringer, Phone: 202 586-0371, Email: bryan.berringer@ee.doe.gov.

RIN: 1904-AD98

67. Energy Conservation Standards for Miscellaneous Residential Refrigeration [1904-AF00]

Legal Authority: 42 U.S.C. 6292(a)(20); 42 U.S.C. 6295(l); 42 U.S.C. 6295(m)

Abstract: The U.S. Department of Energy (DOE) has initiated an effort to consider amending the energy conservation standards for miscellaneous residential refrigeration (e.g., wine coolers and certain other combination consumer refrigeration products). Once completed, this rulemaking will fulfill DOE's statutory obligation to either propose amended energy conservation standards for these products or determine that the existing standards do not need to be amended. To this end, DOE must determine whether national standards more stringent than those currently in place would result in a significant amount of energy savings and whether such amended national standards would be technologically feasible and economically justified.

In the notice of proposed rulemaking, DOE proposed standards that represent the maximum improvement in energy efficiency that is technologically feasible and economically justified, and would result in the significant conservation of energy. Specifically, with regards to technological feasibility products achieving these standard levels are already commercially available for all product classes covered by this proposal. As for economic justification, DOE's analysis shows that the benefits of the proposed standard exceed, to a great extent, the burdens of the proposed standards.

On September 25, 2023, the Association of Home Appliance Manufacturers and efficiency and consumer organizations and utilities, submitted a joint letter to DOE recommending new and amended efficiency standards for various home appliances for consideration, including miscellaneous refrigeration products. Under the authority provided in 42 U.S.C. 6295(p)(4), DOE is now pursuing this effort through a direct final rule, see 1904-AF62.

Completed:

Reason | Date | FR Cite
Withdrawn | 02/06/24

Regulatory Flexibility Analysis Required: Yes.

Agency Contact: Lucas Adin., Phone: 202 287-5904, Email: lucas.adin@ee.doe.gov.

RIN: 1904-AF00

68. Energy Conservation Program: Energy Conservation Standards for General Service Lamps [1904-AF43]

Legal Authority: 42 U.S.C. 6295(i)(6)(B); 42 U.S.C. 6295(m); 42 U.S.C. 6295(o); 42 U.S.C. 6295(p)

Abstract: The Energy Policy and Conservation Act, as amended (EPCA), directs the U.S. Department of Energy (DOE) to initiate two rulemaking cycles for general service lamps (GSLs) that, among other requirements, determine whether standards in effect for GSLs should be amended. EPCA also requires DOE to periodically determine whether more-stringent standards would be technologically feasible and economically justified, and would result in significant energy savings. In this final rule, DOE is adopting amended energy conservation standards for GSLs. DOE has determined that the amended energy conservation standards for these products would result in significant conservation of energy and are technologically feasible and economically justified.

Completed:

Reason | Date | FR Cite
Final Action | 04/19/24 | 89 FR 28856
Final Action Effective | 07/03/24

Regulatory Flexibility Analysis Required: Yes.

Agency Contact: Bryan D. Berringer, Phone: 202 586-0371, Email: bryan.berringer@ee.doe.gov.

RIN: 1904-AF43

[FR Doc. 2024-16450 Filed 8-15-24; 8:45 am]

BILLING CODE 6450-01-P